NATIONAL SCIENCE FOUNDATION

Agency Information Collection Activities: Proposed Collection; Comment Request

AGENCY: National Science Foundation.

ACTION: Notice and request for comments.

SUMMARY: Under the Paperwork Reduction Act of 1995, Public Law 104-13 (44 U.S.C. 3501 et seq.), and as part of its continuing effort to reduce paperwork and respondent burden, the National Science Foundation (NSF) is inviting the general public or other Federal agencies to comment on this proposed continuing information collection. The NSF will publish periodic summaries of the proposed projects.

Comments: Comments are invited on (a) Whether the proposed collection of information is necessary for the proper performance of the functions of the Agency, including whether the information shall have practical utility; (b) the accuracy of the Agency's estimate of the burden of the proposed collection of information; (c) ways to enhance the quality, utility, and clarity of the information to respondents, including through the use of automated collection techniques or other forms of information technology; and (d) ways to minimize the burden of the collection of information on those who are to respond, including through the use of appropriate automated, electronic, mechanical, or other technological collection techniques or other forms of information technology.

DATES: Written comments on this notice must be received by April 26, 2010, to be assured of consideration. Comments received after that date will be considered to the extent practicable. Send comments to the address below.

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov.

FOR FURTHER INFORMATION CONTACT: Contact Suzanne Plimpton, the NSF Reports Clearance Officer, phone (703) 292-7556, or send e-mail to splimpto@nsf.gov. Individuals who use a telecommunications device for the deaf (TDD) may call the Federal Information Relay Service (FIRS) at 1-800-877-8339, which is accessible 24 hours a day, 7 days a week, 365 days a year (including federal holidays).

SUPPLEMENTARY INFORMATION: Title of Collection: 2010 National Survey of College Graduates.

OMB Approval Number: 3145-0141.

Expiration Date of Approval: July 31, 2011.

Type of Request: Intent to seek approval to renew an information collection for three years.

1. Abstract

The National Survey of College Graduates (NSCG) has been conducted biennially since the 1970s. The 2010 NSCG sample will be selected from the 2009 American Community Survey (ACS), the 2008 NSCG, and the 2008 National Survey of Recent College Graduates (NSRCG).

The purpose of this longitudinal survey is to provide national estimates on the science and engineering workforce and changes in their employment, education, and demographic characteristics. The NSCG is one of three component surveys of the Scientists and Engineers Statistical Data System (SESTAT), which produces national estimates of the size and characteristics of the nation's science and engineering population. The 2010 NSCG will provide necessary input into the SESTAT.

The National Science Foundation Act of 1950, as subsequently amended, includes a statutory charge to “ * * * provide a central clearinghouse for the collection, interpretation, and analysis of data on scientific and engineering resources, and to provide a source of information for policy formulation by other agencies of the Federal Government.” The NSCG is designed to comply with these mandates by providing information on the supply and utilization of the nation's scientists and engineers.

The NSF uses the information from the NSCG to prepare congressionally mandated reports such as Women, Minorities and Persons with Disabilities in Science and Engineering and Science and Engineering Indicators. A public release file of collected data, designed to protect respondent confidentiality, will be made available to researchers on CD-ROM and on the Internet.

The Bureau of the Census, as in the past, will conduct the NSCG for NSF. The survey data collection will begin in October 2010 using mail and Web questionnaires. Nonrespondents to the mail or web questionnaire will be followed up by computer-assisted telephone interviewing. The survey will be collected in conformance with the Confidential Information Protection and Statistical Efficiency Act of 2002, and the individual's response to the survey is voluntary. NSF will ensure that all information collected will be kept strictly confidential and will be used only for statistical purposes.

2. Expected Respondents

A statistical sample of approximately 100,000 will be contacted in 2010. NSF expects the response rate to be 70 to 80 percent.

3. Estimate of Burden

The amount of time to complete the questionnaire may vary depending on an individual's circumstances; however, on average it will take approximately 25 minutes to complete the survey. NSF estimates that the total annual burden will be no more than 33,333 hours during the 2010 survey cycle.

Dated: February 18, 2010.
Suzanne H. Plimpton,
Reports Clearance Officer, National Science Foundation.

[FR Doc. 2010-3592 Filed 2-23-10; 8:45 am]

BILLING CODE 7555-01-P